DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Public Law 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than August 19, 2002.

Also, interested persons are invited to submit written comments regarding the subject matter of the petitions to the Director of DTAA at the address shown below not later than August 19, 2002.

Petitions filed with the Governors are available for inspection at the Office of the Director, DTAA, ETA, DOL, Room C-5311, 200 Constitution Avenue, NW., Washington, DC 20210.

Signed at Washington, DC this 30th day of July 2002.
Edward A. Tomchick,
Director, Division of Trade Adjustment Assistance.

Appendix

Subject firm | Location | Date received at Governor's office | Petition No. | Articles produced
Trinity Rail Group (Wrks) | Beaumont, TX | 06/12/2002 | NAFTA-6,272 | Railcars.
Franklin Polo (Wrks) | Franklin, GA | 06/10/2002 | NAFTA-6,273 | Men's polo shirts.
Meyersdale Manufacturing Co (Wrks) | Meyersdale, PA | 06/11/2002 | NAFTA-6,274 | Uniform shirts.
Scotty's Fashions of Lewistown (UNITE) | Lewistown, PA | 06/11/2002 | NAFTA-6,275 | Ladies' Sportswear.
Solectron of Oregon (Wrks) | Hillsboro, OR | 06/07/2002 | NAFTA-6,276 | Auto electronics safety components.
St. Vincent de Paul Enterprises (Comp) | Portland, OR | 06/06/2002 | NAFTA-6,277 | Hoods stays, brake harnesses.
Sony Electronics, Inc. (Wrks) | San Diego, CA | 05/17/2002 | NAFTA-6,278 | Televisions and computer monitors.
Lexstar Technologies (Wrks) | Mason City, IA | 05/22/2002 | NAFTA-6,279 | Battery packs, chargers, analyzers.
Intermix Distributors, Inc. (Wrks) | El Paso, TX | 06/12/2002 | NAFTA-6,280 | Corn and flour tortillas.
Agrilink Foods (Comp) | Tacoma, WA | 06/14/2002 | NAFTA-6,281 | Salsa, relish and other pickle products.
Glen Oaks Industries, Inc. (Wrks) | Dallas, TX | 06/14/2002 | NAFTA-6,282 | Men's dress slacks.
Alfa Laval (IAM) | Kenosha, WI | 05/14/2002 | NAFTA-6,283 | Pumps, valves and clamps.
Severn Trent Services | Fieldale, VA | 06/24/2002 | NAFTA-6,284 | Dye for sewer plant.
NW Swissmatic ( ) | Minneapolis, MN | 06/06/2002 | NAFTA-6,285 | Cylindrical machine parts.
Joy Mining Machinery ( ) | Mt. Vernon, IL | 06/24/2002 | NAFTA-6,286 | Boilermakers.
Olson Technologies, Inc. ( ) | Allentown, PA | 06/17/2002 | NAFTA-6,287 | Valves.
Regal Plastics Company ( ) | Roseville, MI | 06/20/2002 | NAFTA-6,288 | Plastics.
Tecknit ( ) | Cranford, NJ | 05/10/2002 | NAFTA-6,289 | Gaskets.
Therm-O-Disc Inc. ( ) | Muskegon, MI | 06/20/2002 | NAFTA-6,290 | Saturn Probe assemblies (part numbers).
Sulzer Pumps ( ) | Portland, OR | 06/20/2002 | NAFTA-6,291 | Industrial pumps.
Weyerhaeuser ( ) | Woodburn, OR | 06/20/2002 | NAFTA-6,292 | Finished wood products.
Micro Molding Technologies ( ) | Boynton Beach, FL | 06/20/2002 | NAFTA-6,293 | Inection molding of plastic parts.
Curt G. Joa, Inc. ( ) | Boynton Beach, FL | 06/19/2002 | NAFTA-6,294 | Custom web processing machinery.
Sun Belt Interplex ( ) | Tamarac, FL | 04/22/2002 | NAFTA-6,295 | Metal stampings for med & tech. industrs.
Great Lakes Transportation ( ) | Duluth, MN | 06/25/2002 | NAFTA-6,296 |
American Corporation ( ) | Carrollton, GA | 06/19/2002 | NAFTA-6,297 | Women's white socks.
Angelica Image Apparel ( ) | St. Louis, MO | 06/21/2002 | NAFTA-6,298 | Uniforms (shirts and aprons).
EDUSA Corp. (Wkrs) | El Paso, TX | 06/20/2002 | NAFTA-6,299 | Warehousing.
Strattec Security (Co) | Milwaukee, WI | 06/20/2002 | NAFTA-6,300 | Locks.
BR Holdings LTD—Racine Steel Castings (CO) | Racine, WI | 06/19/2002 | NAFTA-6,301 | Automobile seats.
Flextronics—Enclosure Systems (CO) | New Braunfels, TX | 06/24/2002 | NAFTA-6,302 | Plastics and sheet metal fabrication.
Parker Hosiery (CO) | Old Fort, NC | 06/25/2002 | NAFTA-6,303 | Socks.
Ericsson (CO) | Durham, NC | 06/20/2002 | NAFTA-6,304 | Indoor/outdoor base stations products.
Montgomery Production (CO) | Montgomery, IL | 06/26/2002 | NAFTA-6,305 | Retail grocery and foodservice products.
Signa Molds (Wkrs) | Pacoima, CA | 06/24/2002 | NAFTA-6,306 | Injection molds.
Vishay Dale Electronics (Co.) | Columbus, NE | 06/28/2002 | NAFTA-6,307 | Wirewound-military mount.
Santiom Forest Products (CO) | Sweet Home, OR | 06/28/2002 | NAFTA-6,308 | Ran threw planer & molder.
Brooks-PRI Automation (Co.) | Hillsboro, OR | 06/26/2002 | NAFTA-6,309 | Software design, development, and mgmt.
JB Tool & Machine (Wkrs) | Wapakoneta, OH | 06/28/2002 | NAFTA-6,310 | TV frames.
Premier Turbines (CO) | Neosho, MO | 06/26/2002 | NAFTA-6,311 | Military engines.
Delphi Corporation (CO) | Dayton, OH | 05/14/2002 | NAFTA-6,312 | Brake and chase systems.
H and L Tool Company | Erie, PA | 06/21/2002 | NAFTA-6,313 | Plastic injection molds.
Newcor Inc. (Wkrs) | Troy, MI | 06/27/2002 | NAFTA-6,314 | Oil pump transmission shaft.
Paccar Kenworth (IAM) | Bentown, MA | 04/23/2002 | NAFTA-6,315 | Fabricated parted.
Andrew Corporation (Wkrs) | Camarillo, CA | 06/24/2002 | NAFTA-6,316 | Wireless antennas.
General Cable (CO) | Bonham, TX | 06/27/2002 | NAFTA-6,317 | Copper telephone cable.
Ube Automotive North America (UAW) | Mason, OH | 06/24/2002 | NAFTA-6,318 | Aluminum wheels.
General Cable (Wkrs) | Monticello, IL | 06/26/2002 | NAFTA-6,319 | Telephone wire.
MSC Pinole Point Steel (Wkrs) | Richmond, CA | 06/21/2002 | NAFTA-6,320 | Coils.
Xerox Corporation (Wkrs) | Webster, NY | 06/17/2002 | NAFTA-6,321 | Lakes products.
Whisper Jet (Wrkrs) | Sanford, FL | 06/20/2002 | NAFTA-6,322 | Helicopter.
Metso Automation (Co.) | Shrewbury, MA | 06/26/2002 | NAFTA-6,323 | Control valves.
Neuroscan (Wkrs) | El Paso, TX | 06/26/2002 | NAFTA-6,324 | Medical electronic equipment.
Metso Minerals (Co.) | Clintonville, WI | 06/26/2002 | NAFTA-6,325 | Conveyers.
Schneider Electric/Square D Company (Wrkrs) | Monroe, NC | 06/25/2002 | NAFTA-6,326 | Low Voltage Transformers.
A.O. Smith Electrical Products (Co.) | Monticello, IN | 06/26/2002 | NAFTA-6,327 | Subfractional motor.
A.O. Smith Electrical Products (CO) | Upper Sandusky, OH | 04/17/2002 | NAFTA-6,328 | Electric motor stampings.
Tyco International (Wkrs) | White City, OR | 05/30/2002 | NAFTA-6,329 | Printed circuits boards.
Johnson Controls (Co.) | Lapier, MI | 06/21/2002 | NAFTA-6,330 | Headliners.
Permeir Turbines, Sabareliner (Wkrs) | Independence, KS | 07/02/2002 | NAFTA-6,331 | Aircraft Products.
Trus Joist a Weyerhauser Business (Co) | Stayton, OR | 07/02/2002 | NAFTA-6,332 | Engineered Wood Products.
King Press (Wkrs) | Joplin, MO | 07/04/2002 | NAFTA-6,333 | Complete Printing Process.
Nortel Networks (Wkrs) | Billerica, MA | 07/02/2002 | NAFTA-6,334 | BSN 5000/Broadband Service Node.
Fibermark (Wkrs) | South Hadley, MA | 07/02/2002 | NAFTA-6,335 | Pulp and Specialty Paper.
Snorkel (Wkrs) | Elwood, KS | 06/27/2002 | NAFTA-6,336 | Forklifts.
Trico Products Inc. (Wkrs) | Buffalo, NY | 07/02/2002 | NAFTA-6,337 | IT Information Services.
Accura Tool and Die-Metaldyne (Wkrs) | Crystalake, IL | 07/05/2002 | NAFTA-6,338 | Tools.
Maxxim Medical Inc. (Wkrs) | Asheville, NC | 07/03/2002 | NAFTA-6,339 | Medical Surgical Drapes and Gowns.
Solectron (Wkrs) | West Palm Beach, FL | 07/05/2002 | NAFTA-6,340 | Metal stamping, injection molding, etc.
Flextronics International (Wkrs) | Longmont, CO | 06/24/2002 | NAFTA-6,341 | Contract Assembly Box Build.
Louisiana Pacific (Co.) | Bon Wier, TX | 07/09/2002 | NAFTA-6,342 | Plywood panels.
Doutt Tool Inc. (Co.) | Venago, PA | 07/03/2002 | NAFTA-6,343 | Punches, Dies, Machine Parts.
Wisconsin Color Press (Co.) | Milwaukee, WI | 07/02/2002 | NAFTA-6,344 | Magazines, Catalogs & printing products.
News Group (The) (Wkrs) | Jackson, MI | 07/03/2002 | NAFTA-6,345 | Magazine and book distributor.
National Textiles (Wkrs) | Winston Salem, NC | 07/08/2002 | NAFTA-6,346 | Fabric.
Midwest Metallurgical-Detroit Stoker (GMP) | Mashall, MI | 07/08/2002 | NAFTA-6,347 | New casting.
Feralloy North American Steel (Wkrs) | Melvindale, MI | 07/08/2002 | NAFTA-6,348 | Steel.
John Deer Vehicle Group (Wkrs) | Williamsburg, VA | 07/08/2002 | NAFTA-6,349 | Utility vehicles.
Medtronic (Co.) | Sunnse, FL | 06/18/2002 | NAFTA-6,350 | Medical device.
FCI USA (Wkrs) | York, PA | 07/08/2002 | NAFTA-6,351 | Connectors.

[FR Doc. 02-19963 Filed 8-6-02; 8:45 am]

BILLING CODE 4510-30-P